DEPARTMENT OF VETERANS AFFAIRS

38 CFR Part 60

RIN 2900-AP45

Fisher Houses and Other Temporary Lodging; Correction

AGENCY: Department of Veterans Affairs.

ACTION: Correcting amendments.

SUMMARY: The Department of Veterans Affairs is correcting a final rule that eliminated the use of VA Form 10-0408A when veterans receiving treatment or care seek temporary lodging at a VA Fisher House for their relatives, close friends, or caregivers that was published in the Federal Register (82 FR 26592) on June 8, 2017.

DATES: The correction is effective August 2, 2017.

FOR FURTHER INFORMATION CONTACT: Jennifer Koget, National Fisher House and Family Hospitality Program Manager, Care Management and Social Work (10P4C), Veterans Health Administration, Department of Veterans Affairs, 810 Vermont Avenue NW., Washington, DC 20420, (202) 461-6780. (This is not a toll-free number.)

SUPPLEMENTARY INFORMATION: On June 8, 2017, at 82 FR 26592, VA amended what had been the § 60.15 series of 38 CFR part 60 to eliminate use of VA Form 10-0408A, found at 38 CFR 60.15. VA amended the section heading and heading for paragraph (b) in the § 60.15 series to reflect the June 8, 2017, amendment. At the time of the amendments, VA inadvertently failed to include the accompanying instruction amending the section and paragraph headings. The rule became effective on July 10, 2017; however, the Federal Register could not revise the section and corresponding paragraph (b) heading without the missing amendatory instruction.

Consequently, the Electronic Code of Federal Regulations, published by the Government Printing Office, could not implement the change, noting an “inaccurate amendatory instruction” at 38 CFR 60.15. With this notice, VA is amending § 60.15 to correct the accompanying instruction amending the section and paragraph headings in the regulation.

List of Subjects in 38 CFR Part 60

Health care, Housing, Reporting and recordkeeping requirements, Travel, Veterans.

Correcting Amendments

For the reasons discussed in the preamble, VA is correcting 38 CFR part 60 with the following amendments:

PART 60—FISHER HOUSES AND OTHER TEMPORARY HOUSING

1. The authority citation for part 60 continues to read as follows:

Authority: 38 U.S.C. 501, 1708.

2. In § 60.15, revise the section heading and the paragraph (b) heading are revised to read as follows:

§ 60.15 Process for requesting Fisher House or other temporary lodging.

* * * * *

(b) Processing requests. * * *

* * * * *

Dated: July 27, 2017.
Michael Shores,
Director, Regulation Policy & Management, Office of the Secretary, Department of Veterans Affairs.

[FR Doc. 2017-16196 Filed 8-1-17; 8:45 am]

BILLING CODE 8320-01-P